DEPARTMENT OF ENERGY

Federal Energy Regulatory Commission

[Project No. 2710-035]

PPL Maine, LLC; Notice of Application Ready for Environmental Analysis, Waiving Standard Three-Stage Consultation, Establishing an Expedited Schedule for Relicensing, and Soliciting Comments, Recommendations, Terms and Conditions, and Prescriptions

February 23, 2005.

Take notice that the following hydroelectric application has been filed with the Commission and is available for public inspection.

a. Type of Application: New major license.

b. Project No.: P-2710-035.

c. Date Filed: June 25, 2004.

d. Applicant: PPL Maine, LLC.

e. Name of Project: Orono Hydroelectric Project.

f. Location: On the Stillwater Branch of the Penobscot River, near the town of Buxton, Penobscot County, Maine. This project does not occupy federal lands.

g. Filed Pursuant to: Federal Power Act, 16 U.S.C. 791(a)-825(r)

h. Applicant Contact: Mr. Scott Hall, PPL Maine, LLC, Davenport Street, PO Box 276, Milford, Maine 04461, (207) 827-5364.

i. FERC Contact: Patrick Murphy, (202) 502-8755, patrick.murphy@ferc.gov.

j. Deadline for filing comments, recommendations, terms and conditions, and prescriptions: 60 days from the issuance date of this notice; reply comments are due 105 days from issuance date of this notice.

All documents (original and eight copies) should be filed with: Magalie R. Salas, Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

Comments and recommendations may be filed electronically via the Internet in lieu of paper. The Commission strongly encourages electronic filings. See CFR 385.2001(a)(1)(iii) and the instructions on the Commission's Web site (http://www.ferc.gov) under the “eFiling” link.

k. This application has been accepted, and is ready for environmental analysis at this time.

l. Project Description: The Orono Hydroelectric Project consists of the following facilities: (1) The existing 1,174-foot-long by 15-foot-high dam with 2.4-foot-high flashboards; (2) a 2.3-mile-long reservoir, which has a surface area of 175 acres at the normal full pond elevation of 72.4 feet above mean sea level; (3) three new 10-foot-diameter penstocks; (4) a new restored powerhouse containing four generating units with total installed generating capacity of 2.3 megawatts (MW); and (4) appurtenant facilities. The restored project would have an average annual generation of 17,821 megawatt-hours. The dam and existing project facilities are owned by the applicant.

m. A copy of the application is available for review at the Commission in the Public Reference Room or may be viewed on the Commission's Web site at http://www.ferc.gov using the “elibrary link”. Enter the docket number excluding the last three digits in the docket number field to access the document. For assistance, contact FERC Online Support at FERCOnlineSupport@ferc.gov or toll-free at (866) 208-3676, or for TTY, (202) 502-8659. A copy is also available for inspection and reproduction at the address in item h. above.

All filings must: (1) Bear in all capital letters the title “COMMENTS”, “REPLY COMMENTS”, “RECOMMENDATIONS”, “TERMS AND CONDITIONS”, or “PRESCRIPTIONS”; (2) set forth in the heading the name of the applicant and the project number of the application to which the filing responds; (3) furnish the name, address, and telephone number of the person submitting the filing; and (4) otherwise comply with the requirements of 18 CFR 385.2001 through 385.2005. All comments, recommendations, terms and conditions, or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/esubscribenow.htm to be notified via e-mail of new filings and issuances related to this or other pending projects. For assistance, contact FERC Online Support.

n. Pre-Filing Consultation and Scoping: The standard 3-stage consultation process required by the Commission's regulations at 18 CFR 16.8, is hereby waived as requested in comments filed in accordance with the “Lower Penobscot River Multiparty Settlement Agreement”. We are also substituting the pre-filing consultation process that has occurred on this project for our standard National Environmental Policy Act scoping process.

o. Procedural Schedule: Commission staff propose to issue an Environmental Assessment (EA) rather than issuing a draft and final EA. Staff intends to allow 30 days for comments on the EA, and will take into consideration all comments received before final action is taken on the license application. The application will be processed according to the following schedule, but revisions to the schedule may be made as appropriate:

Issue Notice of availability of EA: June 30, 2005.

Ready for Commission decision on the application: August 1, 2005.

Magalie R. Salas,
Secretary.

[FR Doc. E5-813 Filed 2-28-05; 8:45 am]

BILLING CODE 6717-01-P